DEPARTMENT OF HEALTH AND HUMAN SERVICES

Centers for Medicare and Medicaid Services

[CMS-3109-N]

Medicare Program; Town Hall Meeting on the Hospital “1-hour” Rule Related to the Use of Restraint and Seclusion

AGENCY: Centers for Medicare & Medicaid Services (CMS), HHS.

ACTION: Notice of meeting.

SUMMARY: This notice announces a town hall meeting to obtain and discuss general comments from the public concerning the impact of the hospital “1-hour” rule related to the use of restraint and seclusion. Specifically, the meeting will attempt to solicit individual comments and experiences from providers, advocates, consumers, and other interested parties concerning the application of the “1-hour” rule requiring a physician or a licensed independent practitioner to make a face-to-face assessment within 1 hour of any patient being placed in restraint or seclusion for behavioral reasons. We are particularly interested in data that show how this requirement may be imposing burdens on patient care, including, but not limited to, financial burdens on hospitals and physicians. We would be happy to address/discuss other concerns related to the provision of hospital services to this population of patients.

Hospitals, provider representatives, advocacy groups, physicians, and other interested parties are invited to this meeting to present their views on this issue. The opinions and alternatives provided during this meeting will assist us as we evaluate our policy on the “1-hour” rule. The meeting is open to the public, but attendance is limited to space available.

DATES: Meeting Date: The town hall meeting announced in this notice will be held on Tuesday, October 29, 2002, from 10 a.m. to 1 p.m. (eastern standard time).

ADDRESSES: The town hall meeting will be held in the auditorium at the Centers for Medicare & Medicaid Services, 7500 Security Boulevard, Baltimore, MD 21244.

FOR FURTHER INFORMATION CONTACT: Nancy Archer (410) 786-0596. You may also send inquiries about this meeting via e-mail to narcher@cms.hhs.gov.

SUPPLEMENTARY INFORMATION:

I. Background

On July 2, 1999, we published an interim final rule with comment introducing a new Patients' Rights Condition of Participation (CoP) that hospitals must meet to be approved for, or to continue participation in, the Medicare and Medicaid programs (64 FR 36070). One of the requirements mandates that, for restraint or seclusion applied for behavioral reasons, a physician, or licensed independent practitioner (LIP), must make a face-to-face assessment of that patient within 1 hour of implementation of the intervention (64 FR 26088).

The “1-hour” requirement was subsequently challenged in the United States District Court for the District of Columbia. Although the Court ruled in the Secretary's favor with respect to this provision, hospitals and their provider groups have continued to inform us that requiring a physician or LIP to perform the 1-hour face-to-face assessment causes undue burden on hospitals, without specific evidence that the quality of care has improved.

II. Meeting Format

The meeting will begin with an overview of the goals of the meeting and an introduction of the meeting moderator, followed by remarks from Thomas A. Scully, Administrator, Centers for Medicare & Medicaid Services, and Charles G. Curie, Administrator, Substance Abuse and Mental Health Services Administration. The Acting Director, Office of Clinical Standards and Quality, will present the context for the discussion. Participants that have requested to speak will then be given time to present their information. The moderator will solicit comments and recommendations from the audience about issues concerning the implementation of the 1-hour rule, as time permits.

The information about the town hall meeting will be posted at the following website address: http://www.cms.hhs.gov/opendoor/hospitals.asp. At this address, interested parties will find an agenda for the meeting and instructions on how to call into the meeting if unable to attend in person.

We will limit the time for participants to make formal statements according to the number of participants who have registered in advance to speak at the meeting. Individuals who wish to make formal statements must contact Nancy Archer at (410) 786-0596 or via e-mail, narcher@cms.hhs.gov as soon as possible. Those individuals must subsequently submit their formal statements in writing no later than 5 p.m., Thursday, October 24, 2002. Send written submissions to: Nancy Archer, Centers for Medicare & Medicaid Services, 7500 Security Boulevard, Mail Stop S3-02-01, Baltimore, Maryland 21244 or narcher@cms.hhs.gov. Comments from individuals not registered to speak will be heard following individuals with scheduled statements, as time permits.

III. Registration Instructions

The Clinical Standards Group is coordinating registration for the meeting. While there is no registration fee, all individuals must register to attend. Because this meeting will be located on Federal property, for security reasons, any persons wishing to attend this meeting must call or e-mail Nancy Archer at (410) 786-0596 (narcher@cms.hhs.gov) to register at least 72 hours in advance. Attendees must show photographic identification to the Federal Protective Service or Guard Service personnel before they will be permitted to enter CMS grounds. Individuals who have not registered in advance will not be allowed to enter the building to attend the meeting. Seating capacity is limited to the first 250 registrants. Individuals requiring sign language interpretation for the hearing impaired or other special accommodations should contact Aileen Bullock at (410) 786-5637 (abullock@cms.hhs.gov) at least 10 days before the meeting. There will be a TTY system access number available.

Authority: 42 U.S.C 1395x(e) and (f).

(Catalog of Federal Domestic Assistance Program No. 93.773, Medicare—Hospital Insurance)
Dated: October 7, 2002.
Thomas A. Scully,
Administrator, Centers for Medicare and Medicaid Services.

[FR Doc. 02-25948 Filed 10-10-02; 8:45 am]

BILLING CODE 4165-15-P